DEPARTMENT OF LABOR

Employment and Training Administration

Proposed Information Collection Request Submitted for Public Comment and Recommendations; Reporting and Performance Standards System for the Indian and Native American Programs Under Title I-D, Section 166 of the Workforce Investment Act (WIA) of 1998

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

The Employment and Training Administration (ETA) is soliciting comments on modified reporting requirements for the Indian and Native American programs. This information collection request is necessary in order to collect data for calculating a set of common performance measures of the outcomes achieved by the Indian and Native American programs. A copy of the proposed Information Collection Request (ICR) can be obtained by contacting the office listed below in the addressee section of this notice and also by accessing this Web site: http://www.doleta.gov/Performance/guidance/OMBControlNumber.cfm. In addition to the proposed ICR, ETA is requesting the extension of ETA Form 9080 (Financial Status Report). No changes are made to this form. Submit written comments to the office listed in the addressee section within 60 days after date of publication in the Federal Register. Comments may also be submitted via e-mail at: etaperforms@doleta.gov by using “OMB 1205-0422” in the subject line of the e-mail.

ADDRESSES: Send comments to: Ms. Athena R. Brown, Program Manager, Indian and Native American Programs, Employment and Training Administration, U.S. Department of Labor, 200 Constitution Avenue, NW., Room C-4311, Washington, DC 20210; telephone: (202) 693-3737 (this is not a toll-free number); fax: (202) 693-3818; e-mail: brown.athena@dol.gov.

FOR FURTHER INFORMATION CONTACT: Same information as ADDRESSES listed above.

SUPPLEMENTARY INFORMATION:

I. Background

Each grantee administering funds under the Indian and Native American programs is currently required to submit a Comprehensive Services Program (CSP) Semi-Annual and Annual Program report (ETA Form 9084), a Supplemental Youth Services (SYS) Semi-Annual and Annual Program report (ETA Form 9085), a Standardized Participant Record Data report, and Financial Status reports (ETA Form 9080) for both programs. The ETA Form 9084 provides adult participation data regarding agreed upon performance goals for the program year, information for system-wide reporting, and an evaluation for program improvement, and is the key means for measuring success in achieving goals of the program. The ETA Form 9085 provides cumulative data on youth participation, termination, performance outcomes, and socio-economic characteristics of participants. The information is used to determine the levels of program service and program accomplishments for the reporting program year. The ETA Form 9080 provides cumulative expenditure and obligation amounts for each funding stream. This information is used to ensure the appropriate use and management of Federal funds.

In 2001, under the President's Management Agenda, OMB and other Federal agencies developed a set of common performance measures to be applied to certain federally-funded employment and training programs with similar strategic goals. As part of this initiative, ETA recently issued Training and Employment Guidance Letter (TEGL) No. 17-05, “Common Measures Policy for the Employment and Training Administration's Performance Accountability System and Related Performance Issues.” The value of implementing common measures is the ability to describe, in a similar manner, the core purposes of the workforce system—how many people found jobs; did they keep their jobs; and what were their earnings. Multiple sets of performance measures have burdened states and grantees as they are required to report performance outcomes based on varying definitions and methodologies. By minimizing the different reporting and performance requirements, implementing a set of common performance measures can facilitate the integration of service delivery, reduce barriers to coordination among programs, and enhance the ability to assess the effectiveness and impact of the workforce investment system, including the performance of the system in serving individuals facing significant barriers to employment.

The common measures are an integral part of ETA's performance accountability system and ETA will continue to collect from grantees the data on program activities, participants, and outcomes that are necessary for program management and to convey complete and accurate information on the performance of workforce programs to policymakers and stakeholders.

This revision to the Indian and Native American programs' reporting system identifies changes in the level of information collection that is necessary to comply with Equal Opportunity requirements, holds grantees appropriately accountable for the Federal funds they receive, assesses progress against the common performance measures, and allows the Department to fulfill its oversight and management responsibilities. It also requires grantees to submit all program reports on a quarterly basis; at this time they are required to report on an annual and semi-annual basis.

The ETA has implemented similar changes to the reporting requirements for the WIA Title I-B, Wagner-Peyser Act, and Trade Adjustment Assistance programs to incorporate the use of common performance measures for these programs.

Grantees are currently required to submit data according to measures established under the Government Performance and Results Act (GPRA), which are entered employment and positive termination rates for the CSP. For the SYS programs, current measures emphasize the attainment of academic skills and certificates, increases in literacy and numeracy skills, and other basic occupational competencies necessary for youth to compete for and obtain employment. While the adult GPRA measures for the Indian and Native American programs are similar to the common measures, the data elements that are needed to do the calculations are different, requiring modifications to the definitions and record layout of the current electronic reporting system used by grantees to report on program performance. Important changes include the following:

• Revising the current reporting forms;

• Revising the timeline of reporting to a quarterly basis;

• Elimination of data collection fields associated with the current Indian and Native American programs' performance standards system, and inclusion of data elements for calculating common measures;

• A change in the field that tracks the reason the participant exited the Indian and Native American program, because participants who exited due to certain reasons, such as becoming institutionalized, are excluded from calculations of common measures;

• Addition of three fields to track whether the participant was employed in the first, second, and third quarters after program exit, which are used to calculate the common measures; and

• The addition of fields to capture average earnings achieved by the participant over a six-month period following program participation for those employed during that period, to calculate the average earnings measure.

II. Desired Focus of Comments

Currently, the Department is soliciting comments concerning the revised information collection request for the Indian and Native American programs in order to:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions

Type of Review: Revision.

Agency: Employment and Training Administration, Labor.

Title: Reporting and Performance Standards System for the Indian and Native American programs authorized under Title I-D, section 166 of the Workforce Investment Act (WIA) of 1998.

OMB Number: 1205-0422.

Recordkeeping: Grantees shall retain all necessary documents related to the compilation and submission of the subject reports for three years after the submission of the final financial report for a specific grant reporting period.

Affected Public: Indian tribes, tribal organizations, Alaska Native entities, Indian-controlled organizations serving Indians, or Native Hawaiian organizations.

Cite/Reference/Form/etc.: Workforce Investment Act of 1998 (Public Law 105-220)/section 166(e)/ETA Form 9084 and ETA Form 9085.

Total Respondents: This ICR will be used by approximately 142 WIA section 166 CSP grantees as the reporting and performance measurement mechanism for programs serving adult participants. For the SYS program, this ICR will be used by approximately 98 WIA section 166 SYS grantees as the reporting and performance measurement mechanism for programs serving youth participants. Labor-funded grantees participating in the demonstration project under Public Law 102-477 will not be affected by this ICR and have not been included in the following burden estimates.

Frequency: Quarterly.

Total Responses: 240 submissions quarterly and 240 annually.

Estimated Total Burden Hours: 83,510.

Required section 166 activity/report | Number of respondents | Responses per year | Total responses | Average hours per response | Annual burden hours
ETA Form 9084 (CS) | 142 | 4 | 568 | 24 | 13,632
SPIR Data | 142 | 4 | 18,277 | 2.5 | 45,693
ETA Form 9085 (SYS) | 98 | 4 | 392 | 24 | 9,408
ETA Form 9080-CSP | 142 | 4 | 568 | 9.67 | 5,493
ETA Form 9080-SYS | 98 | 4 | 392 | 9.67 | 9,284
Totals | 240 | 20 | 20,197 | 348 | 83,510

Total Burden Cost (capital/startup): $0.

Total Burden Cost (operating/maintaining): $0.

Costs associated with this collection will vary widely among grantees, from nearly no additional cost to some higher figure, depending on the size of individual grantee allotments, the state of automation attained by each grantee, and the wages paid to the staff managing the data collection, validation, and reporting process. However, since expenditures associated with the preparation and submittal of these reports should come from the associated Federal grant funds, there should be minimal additional costs, if any, to the grantees. The grantees will not be obligated to expend their own (i.e., non-DOL) resources to fulfill these reporting requirements. All costs associated with the submission of these forms are allowable grant expenses.

Comments submitted in response to this notice will be summarized and/or included in the request for OMB approval of this ICR. Comments will become a matter of public record.

Dated: April 12, 2006.
Emily Stover DeRocco,
Assistant Secretary for Employment and Training.

[FR Doc. E6-5935 Filed 4-19-06; 8:45 am]

BILLING CODE 4510-30-P